SMALL BUSINESS ADMINISTRATION

[Disaster Declaration #12843 and #12844]

Virginia Disaster # VA-00036

AGENCY: U.S. Small Business Administration.

ACTION: Notice

SUMMARY: This is a notice of an Administrative declaration of a disaster for the Commonwealth of Virginia dated 09/21/2011.

Incident: Hurricane Irene.

Incident Period: 08/26/2011.

Effective Date: 09/21/2011.

Physical Loan Application Deadline Date: 11/21/2011.

Economic Injury (EIDL) Loan Application Deadline Date: 06/21/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: New Kent, Petersburg City.

Contiguous Counties:

Virginia: Charles City, Chesterfield, Colonial Heights City, Dinwiddie, Hanover, Henrico, James City, King And Queen, King William, Prince George.

The Interest Rates are:

| Percent
For Physical Damage:
Homeowners with Credit Available Elsewhere | 5.000
Homeowners without Credit Available Elsewhere | 2.500
Businesses with Credit Available Elsewhere | 6.000
Businesses without Credit Available Elsewhere | 4.000
Non-Profit Organizations with Credit Available Elsewhere | 3.250
Non-Profit Organizations without Credit Available Elsewhere | 3.000
For Economic Injury:
Businesses & Small Agricultural Cooperatives without Credit Available Elsewhere | 4.000
Non-Profit Organizations without Credit Available Elsewhere | 3.000

The number assigned to this disaster for physical damage is 128438 and for economic injury is 128440.

The Commonwealth which received an EIDL Declaration # is Virginia.

(Catalog of Federal Domestic Assistance Numbers 59002 and 59008)

Dated: September 21, 2011.
Karen G. Mills,
Administrator.

[FR Doc. 2011-24801 Filed 9-26-11; 8:45 am]

BILLING CODE 8025-01-P